SOCIAL SECURITY ADMINISTRATION

Privacy Act of 1974 as Amended; Computer Matching Program (SSA/Department of the Treasury, Bureau of the Public Debt (BPD))—Match 1304

AGENCY: Social Security Administration (SSA).

ACTION: Notice of an amended computer matching program, which is expected to begin April 11, 2006.

SUMMARY: In accordance with the provisions of the Privacy Act, as amended, this notice announces an amendment to the computer matching program that SSA conducts with BPD.

DATES: SSA will file a report of the subject matching program with the Committee on Homeland Security and Governmental Affairs of the Senate; the Committee on Government Reform of the House of Representatives, and the Office of Information and Regulatory Affairs, Office of Management and Budget (OMB). The matching program will be effective as indicated below.

ADDRESSES: Interested parties may comment on this notice by either telefax to (410) 965-8582 or writing to the Associate Commissioner, Office of Income Security Programs, 252 Altmeyer Building, 6401 Security Boulevard, Baltimore, MD 21235-6401. All comments received will be available for public inspection at this address.

FOR FURTHER INFORMATION CONTACT: The Associate Commissioner for Income Security Programs as shown above.

SUPPLEMENTARY INFORMATION:

A. General

The Computer Matching and Privacy Protection Act of 1988 (Pub. L. 100-503), amended the Privacy Act (5 U.S.C. 552a) by describing the manner in which computer matching involving Federal agencies could be performed and adding certain protections for individuals applying for, and receiving, Federal benefits. Section 7201 of the Omnibus Budget Reconciliation Act of 1990 (Pub. L. 101-508) further amended the Privacy Act regarding protections for such individuals. The Privacy Act, as amended, regulates the use of computer matching by Federal agencies when records in a system of records are matched with other Federal, State, or local government records.

It requires Federal agencies involved in computer matching programs to:

(1) Negotiate written agreements with the other agency or agencies participating in the matching programs;

(2) Obtain the Data Integrity Boards' approval of the match agreements;

(3) Publish notice of the computer matching program in the Federal Register;

(4) Furnish detailed reports about matching programs to Congress and OMB;

(5) Notify applicants and beneficiaries that their records are subject to matching; and

(6) Verify match findings before reducing, suspending, terminating, or denying an individual's benefits or payments.

B. SSA Computer Matches Subject to the Privacy Act

We have taken action to ensure that all of SSA's computer matching programs comply with the requirements of the Privacy Act, as amended.

Dated: March 9, 2006.
Martin H. Gerry,
Deputy Commissioner for Disability and Income Security Programs.

NOTICE OF COMPUTER MATCHING PROGRAM, SOCIAL SECURITY ADMINISTRATION (SSA) WITH THE BUREAU OF THE PUBLIC DEBT (BPD)

A. Participating Agencies:

SSA and BPD.

B. Purpose of the Matching Program:

The purpose of this matching program is to establish conditions under which BPD agrees to disclose to SSA ownership of savings securities to verify an individual's self-certification of eligibility for prescription drug subsidy assistance under the Medicare Prescription Drug, Improvement and Modernization Act of 2003 (MMA). Pursuant to section 1860D-14 of Title I of the MMA (42 U.S.C. 1395w-114), SSA will determine whether the individual is an individual described in section 1860D-14(a) (i.e., an individual with income up to 150 percent of the Federal poverty guidelines). This agreement allows SSA to conduct the match on an annual basis.

C. Authority for Conducting the Matching Program:

The legal authority for SSA to conduct this matching activity is contained in section 1860D-14 (42 U.S.C. 1395w-114) of the Social Security Act.

D. Categories of Records and Individuals Covered by the Matching Program:

SSA will provide the BPD with a finder file containing Social Security Numbers (SSNs) extracted from the Medicare database, as specified in this Agreement, from the Medicare file of Part D subsidy eligibles, SSA/ORSIS 09-60-0090, as published at 66 FR 11080 (February 21, 2001) and amended at 69 FR 11693 (March 11, 2004). BPD will match the SSNs on the finder file with the SSNs on its savings-type securities (Series E, EE, and I) registration systems. These records are included under the systems of records Treasury/BPD.002, United States Savings Type Securities, and Treasury/BPD.008, Retail Treasury Securities Access Application, last published on May 22, 2001 at 66 FR 28225 and 28235, respectively. SSA will then match BPD data with the Medicare Part D and Part D Subsidy File System of Record 60-0321.

E. Inclusive Dates of the Matching Program:

The matching program will become effective no sooner than 40 days after notice of the matching program is sent to Congress and OMB, or 30 days after publication of this notice in the Federal Register, whichever date is later. The matching program will continue for 18 months from the effective date and may be extended for an additional 12 months thereafter, if certain conditions are met.

[FR Doc. E6-3794 Filed 3-15-06; 8:45 am]

BILLING CODE 4191-02-P